DEPARTMENT OF THE TREASURY

Office of Foreign Assets Control

Unblocking of Three Individuals Blocked Pursuant to Executive Order 13219, as Amended

SUB-AGENCY: Office of Foreign Assets Control, Treasury.

ACTION: Notice.

SUMMARY: The Treasury Department's Office of Foreign Assets Control (“OFAC”) is publishing the name of three individuals whose property and interests in property are being unblocked pursuant to Executive Order 13219 of June 26, 2001 “Blocking Property of Persons Who Threaten International Stabilization Efforts in the Western Balkans,” as amended by Executive Order 13304 of May 28, 2003 “Termination of Emergencies With Respect to Yugoslavia and Modification of Executive Order 13219 of June 26, 2001.”

DATES: The unblocking of property and interests in property and the removal of the three individuals identified in this Notice from the list of Specially Designated Nationals and Blocked Persons (“SDN List”) is effective on February 6, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on-demand service, tel.: 202/622-0077.

Background

On June 26, 2001, the President, invoking the authority of, inter alia, the International Emergency Economic Powers Act (50 U.S.C. 1701 et seq.) (“IEEPA”), issued Executive Order 13219, “Blocking Property of Persons Who Threaten International Stabilization Efforts in the Western Balkans” (66 Fed. Reg. 34777, June 29, 2001) (“E.O. 13219”). In E.O. 13219, the President declared a national emergency with respect to the actions of persons engaged in, or assisting, sponsoring, or supporting: (i) Extremist violence in the former Yugoslav Republic of Macedonia, southern Serbia, the Federal Republic of Yugoslavia, and elsewhere in the Western Balkans region, or (ii) acts obstructing implementation of the Dayton Accords in Bosnia or United Nations Security Council Resolution 1244 in Kosovo.

On May 28, 2003, the President issued Executive Order 13304, “Termination of Emergencies With Respect to Yugoslavia and Modification of Executive Order 13219 of June 26, 2001” (68 FR 32315, May 29, 2003) (“E.O. 13304”), terminating the national emergencies declared in Executive Order 12808 of May 20, 1992, and Executive Order 13088 of June 9, 1998, with respect to the former Socialist Federal Republic of Yugoslavia, revoking those and related executive orders, and taking additional steps with regard to the national emergency declared in E.O. 13219. Section 1 of E.O. 13219, as amended by E.O. 13304, blocks, with certain exceptions, all property and interests in property that are in the United States, or that hereafter come within the United States, or that are or hereafter come within the possession or control of United States persons, of: (i) Persons listed in its Annex and (ii) persons designated by the Secretary of the Treasury, in consultation with the Secretary of State, because they are determined: (A) To be under open indictment by the International Criminal Tribunal for the former Yugoslavia, unless circumstances warrant otherwise, or (B) to have committed, or to pose a significant risk of committing, acts of violence that have the purpose or effect of threatening the peace in or diminishing the stability or security of any area or state in the Western Balkans region, undermining the authority, efforts, or objectives of international organizations or entities present in the region, or endangering the safety of persons participating in or providing support to the activities of those international organizations or entities; or (C) to have actively obstructed, or pose a significant risk of actively obstructing, the Ohrid Framework Agreement of 2001 relating to Macedonia, United Nations Security Council Resolution 1244 relating to Kosovo, or the Dayton Accords or the Conclusions of the Peace Implementation Conference held in London on December 8-9, 1995, including the decisions or conclusions of the High Representative, the Peace Implementation Council or its Steering Board, relating to Bosnia and Herzegovina; or (D) to have materially assisted in, sponsored, or provided financial, material, or technological support for, or goods or services in support of, such acts of violence or obstructionism or any person listed in or designated pursuant to E.O. 13219, as amended; or (E) to be owned or controlled by, or acting or purporting to act directly or indirectly for or on behalf of, any of the foregoing persons.

The Department of the Treasury's Office of Foreign Assets Control, in consultation with the Department of State, has determined that circumstances no longer warrant inclusion of the following individuals in the Annex to E.O. 13219, as amended by E.O. 13304, and that these individuals should be removed from the SDN List:

Individuals

1. GOTOVINA, Ante; DOB 12 Oct 1955; POB Pasman, Croatia; ICTY indictee individual) [BALKANS].

2. ORIC, Naser; DOB 3 Mar 1967; POB Potocari, Bosnia-Herzegovina; ICTY indictee in custody (individual) [BALKANS].

The Department of the Treasury's Office of Foreign Assets Control, in consultation with the Department of State, has determined that the following individual should be removed from the SDN List:

Individual

3. SAROVIC, Mirko; DOB 16 Sep 1956; POB Rogatica, Serbia (individual) [BALKANS].

The removal of the individuals listed above from the SDN List is effective as of [date of Federal Register Notice publication], 2014. All property and interests in property of these individuals that are in or hereafter come within the United States or the possession or control of United States persons are no longer blocked pursuant to E.O. 13219, as amended by E.O. 13304.

Dated: January 30, 2014.
Adam J. Szubin,
Director, Office of Foreign Assets Control.

[FR Doc. 2014-02562 Filed 2-5-14; 8:45 am]

BILLING CODE 4810-AL-P